DEPARTMENT OF AGRICULTURE

Forest Service

Oregon Coast Provincial Advisory Committee

AGENCY: Forest Service, USDA.

ACTION: Notice of Meeting.

SUMMARY: The Oregon Coast Province Advisory Committee will meet at Siuslaw National Forest Headquarters, Siuslaw River Room. The theme of the meeting is 2008 overview. The agenda includes: Brief WOPR Public involvement, Recreation Facility Assessment, WOPR Progress, Monitoring Field Trip and Public comments.

DATES: The meeting will be held January 17, 2008, beginning at 9 a.m.

ADDRESSES: The meeting will be held at 4077 SW Research Way, Corvallis Oregon 97333.

FOR FURTHER INFORMATION CONTACT: Joni Quarnstrom, Public Affairs Specialist, Siuslaw National Forest, 541-750-7075, or write to Siuslaw National Forest Supervisor, 4077 SW Research Way, Corvallis, OR 97339.

SUPPLEMENTARY INFORMATION: The meeting is open to the public. Council Discussion is limited to Forest Service/BLM staff and Council Members. Lunch will be on your own. A public input session will be at 11 a.m. for fifteen minutes. The meeting is expected to adjourn around 3:30 p.m.

Dated: January 4, 2008.
Joni Quarnstrom,
Public Affairs Specialist.

[FR Doc. 08-60 Filed 1-9-08; 8:45 am]

BILLING CODE 3410-11-M